ENVIRONMENTAL PROTECTION AGENCY

40 CFR Part 52

[IN144-1a; FRL-7390-3]

Approval and Promulgation of Implementation Plans; Indiana

AGENCY: Environmental Protection Agency (EPA).

ACTION: Direct final rule.

SUMMARY: EPA is approving revisions to Particulate Matter (PM) control requirements for certain natural gas combustion sources in Indiana. EPA is also approving various cleanup revisions to Indiana's PM rules and contingency measures for the Lake County, Indiana PM nonattainment area. The Indiana Department of Environmental Management (IDEM) submitted these revisions to Title 326 of the Indiana Administrative Code, Section 6-1 (326 IAC 6-1) as a requested revision to the Indiana State Implementation Plan (SIP) on December 19, 2001. The requested SIP revision eliminates PM emissions limits on certain natural gas combustion sources in specified counties, and replaces the limits with a requirement that such sources may only burn natural gas. The requested SIP revision also contains many cleanup provisions such as eliminating limits for sources which have shut down and updating names of sources. Third, the requested SIP revision adds PM contingency measures for the Lake County, Indiana PM nonattainment area.

DATES: This rule is effective on December 10, 2002, unless EPA receives relevant adverse written comments by November 12, 2002. If adverse comment is received, EPA will publish a timely withdrawal of the rule in the Federal Register and inform the public that the rule will not take effect.

ADDRESSES: You should send written comments to: J. Elmer Bortzer, Chief, Regulation Development Section, Air Programs Branch (AR-18J), U.S. Environmental Protection Agency, Region 5, 77 West Jackson Boulevard, Chicago, Illinois 60604.

You may inspect copies of the State submittal and EPA's analysis of it at:

Regulation Development Section, Air Programs Branch (AR-18J), U.S. Environmental Protection Agency, Region 5, 77 West Jackson Boulevard, Chicago, Illinois 60604.

FOR FURTHER INFORMATION CONTACT: Matthew Rau, Environmental Engineer, Regulation Development Section, Air Programs Branch (AR-18J), U.S. Environmental Protection Agency, Region 5, 77 West Jackson Boulevard, Chicago, Illinois 60604, (312) 886-6524.

SUPPLEMENTARY INFORMATION: Throughout this document wherever “we”, “us”, or “our” are used we mean EPA.

Table of Contents

I. What is the EPA approving?

a. Provisions for natural gas combustion sources.

b. Cleanup revisions.

c. Continuous Compliance Plan requirements.

d. Contingency measures.

II. Analysis of the requested SIP revision.

III. What are the environmental effects of this action?

IV. EPA rulemaking action.

V. Administrative requirements.

I. What Is the EPA Approving?

EPA is approving changes to 326 IAC 6-1 as a revision to the Indiana SIP. These changes eliminate PM emissions limits on certain natural gas combustion sources, and replace the limits with a requirement that such sources may only burn natural gas. The changes also contain many cleanup provisions such as eliminating limits for sources which have shut down and updating names of sources. Third, the changes add PM contingency measures for the Lake County, Indiana PM nonattainment area.

a. Provisions for Natural Gas Combustion Sources

Revised 326 IAC 6-1-1(c) states that PM limitations shall not be established for combustion units that burn only natural gas at sources or facilities identified in sections 8.1, 9, and 12 through 18 of the rule, as long as the units continue to burn only natural gas.

This revision replaces PM limitations on gas fired combustion units with the requirement that they only burn natural gas. Since natural gas combustion sources generally have very low PM emissions, enforcement of the “natural gas only” requirement will ensure that these units do not emit PM in excess of what would have been required under the previously approved rules.

Since this revised rule does not allow increased emissions over the current version, this change is not expected to have an adverse effect on air quality. Therefore, we are approving this requested SIP revision.

b. Cleanup Revisions

These revisions affect 326 IAC 6-1-1 through 6-1-6, and 6-1-8.1 through 6-1-18. They generally consist of minor wording changes, updating of source and facility names, and elimination of reference to sources or facilities which have ceased operations. While these changes will not result in a decrease in actual PM emissions, removal of sources and facilities which have shut down will result in a decrease in the emissions allowed under the rules.

c. Continuous Compliance Plan Requirements

In addition, IDEM has submitted “Continuous Compliance Plan” provisions in 326 IAC 6-1-10.1(l-v). These provisions have been a part of the State rules since 1993, but have not previously been submitted for EPA approval. These provisions required certain large sources in Lake County to submit “Continuous Compliance Plans” to the Indiana Department of Environmental Management by December 10, 1993. The plans were to contain documentation on operation and maintenance practices, a compliance schedule, and various recordkeeping requirements. The Continuous Compliance Plan provisions also contain 20% 3-minute average opacity limits on disposal and reclamation on iron and steel; maintenance of process vessels; and steel scrap burning or cutting and oxygen lancing operations. Approval of these regulations will strengthen the existing SIP.

These revisions improve the rule and have no impact on previously approved emissions limitations. Therefore, we are approving these requested SIP revisions.

d. Contingency Measures

Indiana has established certain PM contingency measures in 326 IAC 6-1-11.2. The contingency measures require emissions reductions from Lake County sources which are “culpable” for an exceedance of the National Ambient Air Quality Standards (NAAQS) for particulate matter with an aerodynamic diameter less than or equal to a nominal 10 micrometers (PM10). Culpability is defined as a contribution of 25 μg/m³ for a source (entire plant) or 5 μg/m³ for a facility (individual emissions unit). If there is a violation of either the 24-hour average (150 μg/m³) or annual average (50 μg/m³) PM10 NAAQS, culpable sources and facilities will be required to submit reduction measures to reduce actual PM10 emissions by 25%. Contributions are to be determined by the Indiana Department of Environmental Management.

Please note that we are making no determination at this time as to whether these contingency measures meet applicable Clean Air Act requirements, but we are approving the submitted contingency measures for the strengthening effect they will have on the SIP.

II. Analysis of the Requested SIP Revision

This SIP revision will not result in an increase in PM emissions, and several components of the revision will have a strengthening effect on the SIP, as discussed above. Therefore, we are approving the requested SIP revision.

III. What Are the Environmental Effects of This Action?

Since this SIP revision does not relax any emissions limits it will not have an adverse effect on PM air quality. The elimination of limits on sources which have shut down will result in lower overall allowed emissions of PM. Also, approval of the Continuous Compliance Plan provisions and the Lake County Contingency Measures will strengthen the SIP.

IV. EPA Rulemaking Action

We are approving, through direct final rulemaking, revisions to PM control requirements for natural gas combustion sources in Indiana, as well as various cleanup revisions to Indiana's PM rules and contingency measures for the Lake County, Indiana PM10 nonattainment area. We are publishing this action without prior proposal because we view this as a noncontroversial revision and anticipate no adverse comments. However, in a separate document in this Federal Register publication, we are proposing to approve the SIP revision should adverse written comments be filed. This action will be effective without further notice unless we receive relevant adverse written comment by November 12, 2002. Should we receive such comments, we will publish a final rule informing the public that this action will not take effect. Any parties interested in commenting on this action should do so at this time. If no such comments are received, this action will be effective on December 10, 2002.

V. Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by December 10, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Air pollution control, Environmental protection, Incorporation by reference, Intergovernmental relations, Particulate matter.

Dated: September 19, 2002.
William E. Muno,
Acting Regional Administrator, Region 5.

For the reasons stated in the preamble, part 52, chapter I, title 40 of the Code of Federal Regulations is amended as follows:

PART 52—[AMENDED]

1. The authority citation for part 52 continues to read as follows:

Authority: 42 U.S.C. 7401 et seq.

Subpart P—Indiana

2. Section 52.770 is amended by adding paragraph (c)(152) to read as follows:

§ 52.770 Identification of plan.

* * * * *

(c) * * *

(152) On December 19, 2001, Indiana submitted revised Particulate Matter (PM) control requirements for certain natural gas combustion sources in Indiana, as well as various cleanup revisions to Indiana's PM rules and contingency measures for the Lake County, Indiana PM10 nonattainment area. The submittal eliminates PM emissions limits on natural gas combustion sources and replaces the limits with a requirement that such sources may only burn natural gas. The submittal also contains many cleanup provisions such as eliminating limits for sources which have shut down and updating names of sources. Third, the requested State Implementation Plan revision adds PM contingency measures for the Lake County, Indiana PM nonattainment area. (i) Incorporation by reference. Indiana Administrative Code Title 326: Air Pollution Control Board, Article 6: Particulate Rules, Rule 1: Nonattainment Area Limitations, Section 1: Applicability, Section 1.5: Definitions, Section 2: Particulate emission limitations; fuel combustion steam generators, asphalt concrete plant, grain elevators, foundries, mineral aggregate operations; modification by commissioner, Section 3: Nonattainment area particulate limitations; compliance determination, Section 4: Compliance schedules, Section 5: Control strategies, Section 6: State Implementation Plan revisions, Section 8.1: Dearborn County particulate matter emissions limitations, Section 9: Dubois County, Section 10.1: Lake County PM¹⁰ emission requirements, Section 11.1: Lake County fugitive particulate matter control requirements, Section 11.2: Lake County particulate matter contingency measures, Section 12: Marion County, Section 13: Vigo County, Section 14: Wayne County, Section 15: Howard County, Section 16: Vanderburgh County, Section 17: Clark County, and Section 18: St. Joseph County. Added at 25 In. Reg. 709. Effective December 8, 2001.

[FR Doc. 02-25854 Filed 10-10-02; 8:45 am]

BILLING CODE 6560-50-P